DEPARTMENT OF DEFENSE

Department of the Air Force

[Docket ID: USAF-2023-HQ-0014]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by July 26, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Civil Aircraft Landing Permit System Forms; DD Forms 2400, 2401, and 2402; OMB Control Number 0701-0050.

Type of Request: Revision.

Number of Respondents: 5,400.

Responses per Respondent: 1.

Annual Responses: 5,400.

Average Burden per Response: 10 minutes.

Annual Burden Hours: 900.

Needs and Uses: The Federal Aviation Act of 1958 (Pub. L. 85-726, sec. 1107) authorized government agencies to regulate public use of government-owned airfields. The military departments have made military airfields available to civil aircraft operators, primarily to conduct official government business; however, use for other purpose is also occasionally accommodated (see Air Force Instruction 10-1001, Army Regulation 95-2, and Secretary of the Navy Instruction 3770-IC). Access must be managed to ensure that security and operational integrity are maintained and that the government is not held liable if the civil aircraft becomes involved in an accident or incident while using military airfields, facilities, and services. The collection of information is necessary to identify the aircraft operator and the aircraft to be operated; establish the purpose for use of military airfields; and protect the U.S. Government against litigation.

The respondents for this collection include any civil aircraft operator applying for landing rights on a DoD airfield. The Air Force processes three times more requests than other military branches of service, thus the Air Force is the owner of the Civil Aircraft Landing Permit System program and DD Forms 2400, 2401, and 2402. The respondents may access the collection instruments via the DoD Forms website or by contacting the base of interest to obtain info on how to request forms for landing approval. Respondents must complete DD Form 2401 to identify themselves, indicate where they want to operate, state their purpose for use, and list their aircraft. DD Form 2402 is used to ensure that the respondent agrees to hold the government harmless and notify their insurance company to complete the DD Form 2400 to show evidence of third-party liability insurance coverage. The forms are provided at no cost to the individual or company, and when use is for official government business, there is no charge for use of the airfield. The military departments also use the information to advise installation commanders of approved users, aircraft registration numbers, and purpose for use.

Affected Public: Business or other for-profit; individuals or households.

Frequency: On occasion.

Respondent's Obligation: Required to retain or obtain benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: June 20, 2024.
Aaron T. Siegel,
Alternate OSD Federal Register Liaison Officer, Department of Defense.

[FR Doc. 2024-14020 Filed 6-25-24; 8:45 am]

BILLING CODE 5001-05-P